DEPARTMENT OF TRANSPORTATION

Federal Aviation Administration

14 CFR Part 39

[Docket FAA-2023-2234; Project Identifier AD-2023-00963-T; Amendment 39-22960; AD 2025-04-02]

RIN 2120-AA64

Airworthiness Directives; The Boeing Company Airplanes

AGENCY: Federal Aviation Administration (FAA), DOT.

ACTION: Final rule; correction.

SUMMARY: The FAA is correcting an airworthiness directive (AD) that was published in the Federal Register. That AD applies to all The Boeing Company Model 737-600, -700, -700C, -800, -900, and -900ER series airplanes. As published, the service information referenced in certain paragraphs of the regulatory text is incorrect, and the dates specified in the “System Airworthiness Limitation No. 3—Fan Blade Out Conditions” text and “System Airworthiness Limitation No. 4—Engine Nacelle Maintenance Errors” text of figure 1 to paragraph (j) of the regulatory text are incorrect. This document corrects those errors. In all other respects, the original document remains the same.

DATES: This correction is effective April 8, 2025. The effective date of AD 2025-04-02 remains April 8, 2025.

The Director of the Federal Register approved the incorporation by reference of a certain publication listed in this AD as of April 8, 2025 (90 FR 11109, March 4, 2025).

ADDRESSES:

AD Docket: You may examine the AD docket at regulations.gov by searching for and locating Docket No. FAA-2023-2234; or in person at Docket Operations between 9 a.m. and 5 p.m., Monday through Friday, except Federal holidays. The AD docket contains this final rule, any comments received, and other information. The street address for Docket Operations is listed above.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2023-2234.

FOR FURTHER INFORMATION CONTACT: Luis Cortez-Muniz, Aviation Safety Engineer, FAA, 2200 South 216th St., Des Moines, WA 98198; telephone: 206-231-3958; email: luis.a.cortez-muniz@faa.gov.

SUPPLEMENTARY INFORMATION: AD 2025-04-02, Amendment 39-22960 (90 FR 11109, March 4, 2025) (AD 2025-04-02), requires replacing the fasteners on the fan cowl support beam hinge fittings for certain airplanes and, for all airplanes, requires modifying the radial restraint assembly and installing an external doubler at the starter vent, or as an option, installing a serviceable fan cowl. AD 2025-04-02 also requires revising the existing maintenance or inspection program, as applicable, to incorporate new airworthiness limitations. AD 2025-04-02 applies to all The Boeing Company Model 737-600, -700, -700C, -800, -900, and -900ER series airplanes.

Need for Correction

As published, the service information referenced in certain paragraphs of the regulatory text is incorrect, and the dates specified in the “System Airworthiness Limitation No. 3—Fan Blade Out Conditions” text and “System Airworthiness Limitation No. 4—Engine Nacelle Maintenance Errors” text of figure 1 to paragraph (j) of the regulatory text are incorrect.

Paragraphs (h)(4), (h)(5), and (h)(7) of the regulatory text inadvertently referred to “Boeing Special Attention Requirements Bulletin 737-71-1938 RB, Revision 1, dated June 27, 2024,” instead of “Boeing Special Attention Requirements Bulletin 737-71-1937 RB, Revision 1, dated June 27, 2024.”

Paragraph (h)(4) of the regulatory text also inadvertently referred to “Collins Aerospace Service Bulletin 737NG-71-007,” instead of “Collins Aerospace Service Bulletin 737NG-71-008,” and inadvertently referred to “Material Necessary for Each Inlet Assembly” instead of “Material Necessary for Each Component.”

Paragraph (h)(7) of the regulatory text also included a reference to Collins Service Bulletin 737NG-71-008 but inadvertently included a date of “July 28, 2023” that is not necessary since the paragraph is referring to the Collins Service Bulletin 737NG-71-008 identified in Boeing Special Attention Requirements Bulletin 737-71-1937 RB, Revision 1, dated June 27, 2024, and should match how paragraphs (h)(4) and (5) of the regulatory text refer to Collins Service Bulletin 737NG-71-008 without a date.

Paragraph (j) of the regulatory text inadvertently included a reference to Boeing Special Attention Requirements Bulletin 737-71-1937 RB with the date of “June 27, 2024” instead of “July 27, 2023.”

In addition, the date specified in the “System Airworthiness Limitation No. 3—Fan Blade Out Conditions” text of figure 1 to paragraph (j) of the regulatory text inadvertently referred to “July 31, 2018” instead of “July 31, 2028,” and the date specified in the “System Airworthiness Limitation No. 4—Engine Nacelle Maintenance Errors” text of figure 1 to paragraph (j) of the regulatory text inadvertently referred to “December 31, 2019” instead of “December 31, 2029.”

Material Incorporated by Reference Under 1 CFR Part 51

The FAA reviewed Boeing Special Attention Requirements Bulletin 737-71-1937 RB, Revision 1, dated June 27, 2024. This material specifies procedures for replacing, for certain airplanes, the fasteners on the fan cowl support beam hinge fittings on the left and right engine strut, and, for engine 1 and engine 2 for all airplanes, modifying the radial restraint assembly and installing an external doubler at the starter vent, or as an option, installing a serviceable fan cowl. This material also specifies procedures to incorporate Boeing 737-600/700/700C/800/900/900ER Airworthiness Limitations (AWLs) Document D626A001-9-01 “System Airworthiness Limitation No. 2—Fan Blade Out Conditions,” “System Airworthiness Limitation No. 3—Fan Blade Out Conditions,” and “System Airworthiness Limitation No. 4—Engine Nacelle Maintenance Errors” into the operator's maintenance or inspection program.

This material is reasonably available because the interested parties have access to it through their normal course of business or by the means identified in ADDRESSES.

Correction of Publication

This document corrects several errors and correctly adds the AD as an amendment to 14 CFR 39.13. Although no part of the preamble and no other part of the regulatory information has been corrected, the FAA is publishing the entire rule in the Federal Register.

The effective date of this AD remains April 8, 2025.

Since this action only corrects service information referenced in paragraphs that provide relief to the required actions and corrects a date for an airworthiness limitation by specifying a later date, it has no adverse economic impact and imposes no additional burden on any person. Therefore, the FAA has determined that notice and public comment procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(f), 40113, 44701.

§ 39.13 [Corrected]

2. The FAA amends § 39.13 by adding the following new airworthiness directive:

2025-04-02 The Boeing Company: Amendment 39-22960; Docket No. FAA-2023-2234; Project Identifier AD-2023-00963-T.

(a) Effective Date

This airworthiness directive (AD) is effective April 8, 2025.

(b) Affected ADs

None.

(c) Applicability

This AD applies to all The Boeing Company Model 737-600, -700, -700C, -800, -900, and -900ER series airplanes, certificated in any category.

(d) Subject

Air Transport Association (ATA) of America Code 71, Powerplant.

(e) Unsafe Condition

This AD was prompted by two engine fan blade-out (FBO) events that resulted in the separation of engine inlet cowl and fan cowl parts from the airplane. In one event, fan cowl parts damaged the fuselage, which caused loss of pressurization and subsequent emergency descent. The FAA is issuing this AD to address fan cowls that are not strengthened, which, in the event of an FBO occurrence, could depart the nacelle potentially damaging a stabilizer, or the fan cowl striking the fuselage and window. The unsafe condition, if not addressed, could result in loss of control of the airplane, or in a rapid decompression and hazard to window-seated passengers aft of the wing.

(f) Compliance

Comply with this AD within the compliance times specified, unless already done.

(g) Required Actions

Except as specified by paragraph (h) of this AD: At the applicable times specified in the “Compliance” paragraph of Boeing Special Attention Requirements Bulletin 737-71-1937 RB, Revision 1, dated June 27, 2024, do all applicable actions identified in, and in accordance with, the Accomplishment Instructions of Boeing Special Attention Requirements Bulletin 737-71-1937 RB, Revision 1, dated June 27, 2024.

Note 1 to paragraph (g): Guidance for accomplishing the actions required by this AD can be found in Boeing Special Attention Service Bulletin 737-71-1937, Revision 1, dated June 27, 2024, which is referred to in Boeing Special Attention Requirements Bulletin 737-71-1937 RB, Revision 1, dated June 27, 2024.

(h) Exceptions to Service Information Specifications

(1) Where the service information referenced in paragraph (g) of this AD specifies contacting Boeing or Collins Aerospace for repair instructions: This AD requires doing the repair before further flight using a method approved in accordance with the procedures specified in paragraph (k) of this AD.

(2) Where the Compliance Time columns of the tables in the “Compliance” paragraph of Boeing Special Attention Requirements Bulletin 737-71-1937 RB, Revision 1, dated June 27, 2024, refer to the original issue date of Requirements Bulletin 737-71-1937 RB, this AD requires using the effective date of this AD.

(3) Where System Airworthiness Limitation No. 4, as identified in Boeing Special Attention Requirements Bulletin 737-71-1937 RB, Revision 1, dated June 27, 2024, requires incorporation of solutions to address potential engine nacelle maintenance errors, solutions consist of a re-designed fan cowl latch and keeper and application of high visibility paint on the interior of the integrated drive generator (IDG) door.

(4) Where Collins Aerospace Service Bulletin 737NG-71-008 referenced in Boeing Special Attention Requirements Bulletin 737-71-1937 RB, Revision 1, dated June 27, 2024, specifies use of Bonderite M-CR 1200S Aero, 10P4-2NF primer, EC-117S converter, TR19 thinner, or T20 thinner, this AD also allows for equivalent material substitutes as specified in paragraph 2.C., “Material Necessary for Each Component,” of Collins Aerospace Service Bulletin 737NG-71-008 referenced in Boeing Special Attention Requirements Bulletin 737-71-1937 RB, Revision 1, dated June 27, 2024.

(5) Where Collins Service Bulletin 737NG-71-008 referenced in Boeing Special Attention Requirements Bulletin 737-71-1937 RB, Revision 1, dated June 27, 2024, states to apply primer “per Boeing document D6-1816,” this AD requires replacing that text with “per Boeing document D6-1816 or Boeing SOPM 20-41-02.”

(6) Where Boeing Special Attention Requirements Bulletin 737-71-1937 RB, Revision 1, dated June 27, 2024, requires (Option 1) (Action 3) to be accomplished after (Option 1) (Action 2), this AD allows these two actions to be accomplished concurrently.

(7) Where Collins Service Bulletin 737NG-71-008 referenced in Boeing Special Attention Requirements Bulletin 737-71-1937 RB, Revision 1, dated June 27, 2024, specifies to topcoat over the repair area to agree with the initial production topcoat, this AD also allows topcoat to match the surrounding topcoat.

(i) No Alternative Actions

After the existing maintenance or inspection program has been revised as required by paragraph (g) of this AD, no alternative actions may be used unless the actions are approved as an alternative method of compliance (AMOC) in accordance with the procedures specified in paragraph (k) of this AD.

(j) Credit for Previous Actions

This paragraph provides credit for the actions specified in paragraph (g) of this AD, if those actions were performed before the effective date of this AD using Boeing Special Attention Requirements Bulletin 737-71-1937 RB, dated July 27, 2023, provided where Tables 1 through 4 of Boeing Special Attention Requirements Bulletin 737-71-1937 RB, dated July 27, 2023, specify incorporating 737-600/700/700C/800/900/900ER Airworthiness Limitations (AWLs) Document D626A001-9-01 “System Airworthiness Limitation No. 2—Fan Blade Out Conditions” and “System Airworthiness Limitation No. 3—Fan Blade Out Conditions” into the operators' maintenance program, the information specified in figure 1 to paragraph (j) of this AD has been incorporated into the airworthiness limitations.

Figure 1 to Paragraph (j)—System Airworthiness Limitations
SYSTEM AIRWORTHINESS LIMITATION No. 2
FAN BLADE OUT CONDITIONS
All aircraft must install the following modifications: (1) engines inlets with new spacer design and increased fastener capability (2) fan cowls with new radial restraint fitting hooks, new radial restraint clips, and an external doubler at the starter vent (3) fan cowl support beam fastener changes (except for 737-900ER aircraft, because the fan cowl support beam fastener changes are already incorporated). All aircraft that have not incorporated these modifications cannot operate past July 31, 2028 unless upgraded to new hardware that is fully compliant to §§ 25.901(c) and Appendix K25.1.1 to Part 25. Boeing will release all service data to allow retrofit of hardware updates to the CFM56-7B nacelle prior to that date.
SYSTEM AIRWORTHINESS LIMITATION No. 3
FAN BLADE OUT CONDITIONS
All aircraft delivered without the Performance Improvement Package (PIP) must install engine exhaust nozzle structural stiffening elements. All aircraft that have not incorporated these modifications cannot operate past July 31, 2028 unless upgraded to new hardware that is fully compliant to §§ 25.901(c) and Appendix K25.1.1 to Part 25. Boeing will release all service data to allow retrofit of hardware updates to the CFM56-7B nacelle prior to that date.
SYSTEM AIRWORTHINESS LIMITATION No. 4
ENGINE NACELLE MAINTENANCE ERRORS
All aircraft must incorporate solutions to address potential maintenance errors, e.g., the failure to completely latch the fan cowl or the can cowl integrated drive generator (IDG) door. All aircraft that have not incorporated changes to become fully compliance with §§ 25.901(c) and Appendix K25.1.1 to Part 25 cannot be operated past December 31, 2029.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(l) Related Information

(1) For more information about this AD, contact Luis Cortez-Muniz, Aviation Safety Engineer, FAA, 2200 South 216th St., Des Moines, WA 98198; telephone: 206-231-3958; email: luis.a.cortez-muniz@faa.gov.

(2) For Collins material identified in this AD that is not incorporated by reference, contact Collins Aerospace, 15701 West 95th Street, Lenexa, KS 66219; email ISPublications@collins.com; website tpi.beaerospace.com/Authentication.

(3) Boeing material identified in this AD that is not incorporated by reference is available at the address specified in paragraph (m)(3) this AD.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on April 8, 2025 (90 FR 11109, March 4, 2025).

(i) Boeing Special Attention Requirements Bulletin 737-71-1937 RB, Revision 1, dated June 27, 2024.

(ii) [Reserved]

(4) For Boeing material identified in this AD, contact Boeing Commercial Airplanes, Attention: Contractual & Data Services (C&DS), 2600 Westminster Blvd., MC 110-SK57, Seal Beach, CA 90740-5600; telephone 562-797-1717; website myboeingfleet.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on March 17, 2025.
Victor Wicklund,
Deputy Director, Integrated Certificate Management Division, Aircraft Certification Service.

[FR Doc. 2025-04782 Filed 3-20-25; 8:45 am]

BILLING CODE 4910-13-P